DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. as indicated below:

Subcommittee for | Date(s) | Location
Mental Hlth & Behav Sciences-B | May 4, 2006 | Doubletree Washington
Nephrology | May 8, 2006 | Hotel Rouge
Immunology-A | May 9, 2006 | Topaz Hotel
Immunology-B | May 12, 2006 | Doubletree Washington
Aging and Clinical Geriatrics | May 12, 2006 | Hotel Madera
Mental Hlth & Behav Sciences-A | May 15, 2006 | Wyndham Hotel
Oncology-A | May 15-16, 2006 | Hilton Embassy Row
Infectious Diseases-B | May 17, 2006 | Crowne Plaza Silver Spring
Hermatology | May 18, 2006 | Holiday Inn Central
Endocrinology-B | May 19, 2006 | Doubletree Rockville
Cardiovascular Studies-A | May 22, 2006 | The Churchill Hotel
Cellular & Molecular Medicine | May 22, 2006 | One Washington Circle
Epidemiology | May 23, 2006 | St. Gregory Hotel
Cardiovascular Studies-B | May 25, 2006 | Doubletree Washington
Neurobiology-A | June 2, 2006 | One Washington Circle
Oncology-B | June 5-6, 2006 | Hilton Embassy Row
Neurobiology-C | June 7-8, 2006 | Wyndham Hotel
Gastroenterology | June 8, 2006 | Courtyard Rockville
Infectious Diseases-A | June 9, 2006 | Marriott Bethesda North
Neurobiology-D | June 12, 2006 | Hilton Embassy Row
Surgery | June 12, 2006 | Hilton Embassy Row
Respiration | June 12, 2006 | Hilton Embassy Row
Endocrinology-A | June 14-15, 2006 | Wyndham Hotel
Clinical Research Program | June 16, 2006 | The Churchill Hotel
Neurobiology-E | June 16, 2006 | Doubletree Washington

The addresses of the hotels are:

Courtyard Rockville, 2500 Research Boulevard, Rockville, MD.

Crowne Plaza Silver Spring, 8777 Georgia Avenue, Silver Spring, MD.

Doubletree Washington, 1515 Rhode Island Avenue, NW., Washington, DC.

Doubletree Rockville (The Doubletree Hotel & Executive Meeting Center), 1750 Rockville Pike, Rockville, MD.

Hilton Embassy Row, 2015 Massachusetts Avenue, NW., Washington, DC.

Holiday Inn Central, 1501 Rhode Island Avenue, NW., Washington, DC.

Hotel Madera, 1310 New Hampshire Avenue, NW., Washington, DC.

Hotel Rouge, 1315—16th Street, NW., Washington, DC.

Marriott Bethesda North Hotel & Conference Center, 5701 Marinelli Road, North Bethesda, MD.

One Washington Circle Hotel, One Washington Circle, NW., Washington, DC.

St. Gregory Hotel, 2033 M Street, NW., Washington, DC.

The Churchill Hotel, 1914 Connecticut Avenue, NW., Washington, DC.

Topaz Hotel, 1733 N Street, NW., Washington, DC.

Wyndham Hotel, 1400 M Street, NW., Washington, DC.

The purpose of the Merit Review Board is to provide advice on the scientific quality, budget, safety and mission relevance of investigator-initiated research proposals submitted for VA merit review consideration. Proposals submitted for review by the Board involve a wide range of medical specialities within the general areas of biomedical, behavioral and clinic science research.

The subcommittee meetings will be open to the public for approximately one hour at the start of each meeting to discuss the general status of the program. The remaining portion of each subcommittee meeting will be closed to the public for the review, discussion, and evaluation of initial and renewal projects.

The closed portion of the meetings involves discussion, examination, reference to staff and consultant critiques of research protocols. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C., 552b(c)(6) and (9)(B). Those who plan to attend or would like to obtain a copy of minutes of the subcommittee meetings and rosters of the members of the subcommittees should contact LeRoy G. Frey, PhD, Chief, Program Review (121F), Department of Veterans Affairs, 810 Vermont Avenue, NW., Washington, DC 20420 at (202) 254-0288.

Dated: April 10, 2006.
By Direction of the Secretary.
E. Philip Riggin,
Committee Management Officer.

[FR Doc. 06-3650 Filed 4-17-06; 8:45 am]

BILLING CODE 8320-01-M